ENVIRONMENTAL PROTECTION AGENCY

[EPA-HQ-OPP-2021-0409; FRL-8657-01-OCSPP]

Petition To Cancel Seresto Registration; Notice of Availability

AGENCY: Environmental Protection Agency (EPA).

ACTION: Notice.

SUMMARY: EPA seeks public comment on a April 8, 2021 petition from the Center for Biological Diversity (CBD) requesting that the Agency cancel the registration of insecticide product PNR1427, more commonly known by its brand name Seresto (EPA Registration No. 11556-155), pursuant to Federal Insecticide, Fungicide, and Rodenticide Act (FIFRA), and pending such requested cancellation, to suspend Seresto's registration pursuant to FIFRA. A copy of the petition is available at regulations.gov in docket ID EPA-HQ-OPP-2021-0409.

DATES: Comments, identified by docket identification (ID) number EPA-HQ-OPP-2021-0409, must be received on or before September 10, 2021.

ADDRESSES: Submit your comments, identified by docket identification (ID) number EPA-HQ-OPP-2021-0409 by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC) (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

Additional instructions on commenting or visiting the docket, along with more information about dockets generally, are available at http://www.epa.gov/dockets.

Due to the public health concerns related to COVID-19, the EPA Docket Center (EPA/DC) and Reading Room are closed to public visitors with limited exceptions. The staff continues to provide remote customer service via email, phone, and webform. For the latest status information on EPA/DC services and docket access, visit https://www.epa.gov/dockets.

FOR FURTHER INFORMATION CONTACT: Rachel Fletcher, Pesticide Re-evaluation Division (7508P), Office of Pesticide Programs, Environmental Protection Agency, 1200 Pennsylvania Ave. NW, Washington, DC 20460-0001; telephone number: (703) 347-0512; fax number: (703) 308-8090; email address: fletcher.rachel@epa.gov.

SUPPLEMENTARY INFORMATION:

I. General Information

A. Does this action apply to me?

This action is directed to the public in general and may be of interest to those involved with pesticide manufacture, sale, or use; to a member or affiliate of a veterinarian interest group, an animal welfare interest group, an environmental interest group, or a public health interest group; to federal, state, or local regulatory partners; or to a member of the general public interested in the manufacture, sale, or use of pesticides (including pet medications). Given the broad interest, the Agency has not attempted to identify or describe all the specific entities that may be affected by this action.

The following list of North American Industry Classification System (NAICS) codes is not intended to be exhaustive, but rather provides a guide to help readers determine whether this document applies to them. Potentially affected entities may include:

• Pesticide and Other Agricultural Chemical Manufacturing (NAICS code 325320).

• Pet and Pet Supplies Stores (NAICS code 453910).

• Pet Care (except Veterinary) Services (NAICS code 812910).

• Veterinarians' medicines merchant wholesalers (NAICS code 424210).

• Veterinary Services (NAICS code 541940).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to the complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

C. How can I get copies of this document and other related information?

A copy of the CBD's Petition, “Re: Petition to Cancel Registration of PNR1427 (Brand Name Seresto) under the Federal Insecticide, Fungicide, and Rodenticide Act; Reg. No. 11556-155”, is available in the docket under docket identification (ID) number EPA-HQ-OPP-2021-0409.

II. What does this action do?

EPA seeks public comment during the next 60 days on a petition received from the CBD requesting that the Agency cancel the Seresto registration, and to suspend Seresto's registration pending such requested cancellation. The petition was submitted under the Administrative Procedure Act (APA), 5 U.S.C. 553(e). The petition argues that Seresto must be cancelled because it poses an unreasonable risk to human health, pets, and the environment. The petition states that, “according to a recent aggregate incident summary report, since this product was introduced in 2012, EPA has received over 75,000 adverse incident reports, including at least 1,698 reports linking the use of this product to pet deaths and at least 700 involving human harm.” CBD asserts that the incidents pose unreasonable adverse effects under FIFRA, and that “cancellation of this product is not only warranted but essential for protecting public health, consumers, imperiled wildlife, and companion animals.”

The docket for this action, identified by docket identification (ID) number EPA-HQ-OPP-2021-0409 is available at http://www.regulations.gov or at the Office of Pesticide Programs Regulatory Public Docket (OPP Docket) in the Environmental Protection Agency Docket Center (EPA/DC), EPA West Bldg., Rm. 3334, 1301 Constitution Ave. NW, Washington, DC 20460-0001. Please note that due to the public health emergency the EPA Docket Center (EPA/DC) and Reading Room was closed to public visitors on March 31, 2020. Our EPA/DC staff will continue to provide customer service via email, phone, and webform. For further information on EPA/DC services, docket contact information and the current status of the EPA/DC and Reading Room, please visit https://www.epa.gov/dockets.

Authority: 7 U.S.C. 136 et seq.

Dated: July 6, 2021.
Mary Reaves,
Director, Pesticide Re-Evaluation Division, Office of Pesticide Programs.

[FR Doc. 2021-14677 Filed 7-9-21; 8:45 am]

BILLING CODE 6560-50-P